DEPARTMENT OF THE INTERIOR

Minerals Management Service

Agency Information Collection Activities: Submitted for Office of Management and Budget Review; Comment Request

AGENCY: Minerals Management Service (MMS), Interior.

ACTION: Notice of Information Collection Request.

SUMMARY: To comply with the Paperwork Reduction Act (PRA) (44 U.S.C. 3501 et seq.), we are notifying you that an information collection request (ICR) has been forwarded to the Office of Management and Budget (OMB) for review and approval. We are also soliciting your comments on this ICR which describes the information collection, its expected costs and burden, and how the data will be collected.

DATES: Written comments should be received on or before June 19, 2000.

ADDRESSES: You may submit comments directly to the Office of Information and Regulatory Affairs, OMB, Attention: Desk Officer for the Interior Department (OMB Control Number 1010-NEW), 725 17th Street, NW, Washington, DC 20503. You should also send copies of these comments to us. Our mailing address for written comments regarding this information collection is David S. Guzy, Chief, Rules and Publications Staff, Minerals Management Service, Royalty Management Program, P.O. Box 25165, MS 3021, Denver, Colorado 80225. Courier or overnight delivery address is Building 85, Room A-613, Denver Federal Center, Denver, Colorado 80225. Email address is RMP.comments@mms.gov.

Public Comment Procedure

Your comments and copies of your comments may be submitted to the addresses listed above. Please submit Internet comments as an ASCII file avoiding the use of special characters and any form of encryption. Please also include Attn: Report of Sales and Royalty Remittance, Form MMS-2014, OMB Control Number 1010-NEW, and your name and return address in your Internet message. If you do not receive a confirmation from the system that we have received your Internet message, contact David S. Guzy directly at (303) 231-3432.

We will post public comments after the comment period closes on the Internet at http://www.rmp.mms.gov. You may arrange to view paper copies of the comments by contacting David S. Guzy, Chief, Rules and Publications Staff, telephone (303) 231-3432, FAX (303) 231-3385. Our practice is to make comments, including names and addresses of respondents, available for public review on the Internet and during regular business hours at our offices in Lakewood, Colorado. Individual respondents may request that we withhold their home address from the rulemaking record, which we will honor to the extent allowable by law. There also may be circumstances in which we would withhold from the rulemaking record a respondent's identity, as allowable by law. If you wish us to withhold your name and/or address, you must state this prominently at the beginning of your comment. However, we will not consider anonymous comments. We will make all submissions from organizations or businesses, and from individuals identifying themselves as representatives or officials of organizations or businesses, available for public inspection in their entirety.

FOR FURTHER INFORMATION CONTACT: Dennis C. Jones, Rules and Publications Staff, phone (303) 231-3046, FAX (303)

231-3385, email Dennis.C.Jones@mms.gov.

SUPPLEMENTARY INFORMATION: Title: Report of Sales and Royalty Remittance.

OMB Control Number: 1010-NEW.

Bureau Form Number: Form MMS-2014.

Abstract: The Secretary of the Interior is responsible for the collection of royalties from leases producing minerals from leased Federal and Indian lands. The Secretary is required by various laws to manage the production of mineral resources on Indian lands and Federal onshore and offshore leases, to collect the royalties due, and to distribute the funds in accordance with those laws. MMS is responsible for the royalty management functions assigned to the Secretary and is developing a financial accounting system which includes royalty and production reporting as a part of an overall effort to improve management of the nation's resources. This new system will be effective October 1, 2001, and will replace both the Accounting and Financial System and the Production Accounting and Auditing System. MMS's proposal for royalty reporting requirements was published in the Federal Register on February 23, 1999 (64 FR 8835).

In April 1996, RMP undertook a compliance reengineering initiative. The principal reengineering objective was to define and implement a new compliance strategy ensuring that Federal and Indian mineral lease revenues were accurately and timely paid in the most cost-effective manner possible.

The Royalty Policy Committee (RPC), which includes representatives from industry, States, Indian Tribal and allottee groups, and MMS, issued recommendations in June 1996 to streamline both royalty and production reporting. An action plan was developed to implement many of the recommendations. However, in August 1996, the Federal Oil and Gas Royalty Simplification and Fairness Act of 1996 (RSFA) was enacted into law. RSFA significantly changed many of RMP's historical operating assumptions as well as some fundamental Federal oil and gas mineral revenue financial activities. Although near-term changes in processes and systems were made to implement the law, long-term strategies, business processes, and aging systems needed to be addressed for RMP to be cost-effective and responsive to customer needs. The decision was made April 1, 1997, to expand reengineering to all RMP core business processes. This is the most comprehensive review of RMP's business processes and organization since its creation in 1982.

When a company or individual enters into a contract to develop, produce, and dispose of minerals from Federal or Indian lands, that company or individual agrees to pay the United States, Indian tribe, or allottee a share (royalty) each month of the full value received for the minerals taken from leased lands. The Report of Sales and Royalty Remsittance, Form MMS-2014, is the only document used for reporting royalties, certain rents, and other lease-related transactions to MMS.

As part of our reengineering effort, we analyzed current information collection requirements for the existing Form MMS-2014 and built upon the RPC's earlier recommendations. As a result of our analysis, we developed and incorporated revised reporting requirements for Form MMS-2014 which will reduce the volume of lines reported and processed, minimize errors and related error correction workloads, simplify reporting and lower costs for both industry and RMP. The revised Form MMS-2014 incorporates RPC's recommendations and input received from States, Indian Tribes, and other industry groups.

Industry will not begin using the revised Form MMS-2014 until October 1, 2001, when we implement our new financial accounting system. However, we are requesting approval of this revised form immediately, so that industry can begin work on the necessary systems development and reprogramming adjustments and changes that may be required as they prepare for the new reporting requirements that will be effective October 1, 2001. Please note that the existing Form MMS-2014 will continue to be used until the change over to the revised Form MMS-2014 in the fall of 2001.

Failure to collect the information provided by Form MMS-2014 would render it impossible to ensure that MMS is collecting and disbursing the full value of royalties received from production of leased lands. Collection of royalties directly impacts the amount of funds made available to the United States Treasury, to State governments, and to Indian Tribes and allottees.

The PRA provides that an agency may not conduct or sponsor, and a person is not required to respond to, a collection of information unless it displays a currently valid OMB Control Number. As required in 5 CFR 1320.8(d), MMS published a 60-day Federal Register Notice on February 23, 1999 (64 FR 8835), soliciting comments from the public on this revised Form MMS-2014.

Respondents/Affected Entities: Payors-companies or individuals who enter into a contract to develop, produce, and dispose of minerals from Federal or Indian lands.

Frequency of Response: Monthly.

Estimated Number of Respondents: 2,300 payors.

Estimated Annual Reporting and Recordkeeping “Hour” Burden: 124,500 hours.

Estimated Annual Reporting and Recordkeeping “Non-Hour Cost” Burden: $4.7 million.

Comments: Section 3506(c)(2)(A) of the Paperwork Reduction Act requires each agency “* * * to provide notice * * * and otherwise consult with members of the public and affected agencies concerning each proposed collection of information * * * .” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

Send your comments directly to the offices listed under the ADDRESSES section of this Notice. OMB has up to 60 days to approve or disapprove the information collection but may respond after 30 days. Therefore, to ensure maximum consideration, OMB should receive public comments by June 19, 2000.

MMS Information Collection Clearance Officer: Jo Ann Lauterbach, telephone (202) 208-7744.

Dated: March 27, 2000.
Lucy Querques Denett,
Associate Director for Royalty Management.

[FR Doc. 00-12485 Filed 5-17-00; 8:45 am]

BILLING CODE 4310-MR-P